DEPARTMENT OF HEALTH AND HUMAN SERVICES

Centers for Disease Control and Prevention

Interagency Committee on Smoking and Health (ICSH)

AGENCY: Centers for Disease Control and Prevention (CDC), Department of Health and Human Services (HHS).

ACTION: Notice of meeting.

SUMMARY: In accordance with the Federal Advisory Committee Act, the CDC announces the following meeting for the Interagency Committee on Smoking and Health (ICSH). This meeting is open to the public, limited only by seats available. The meeting room accommodates approximately 80 people. The public is also welcome to join the audio portion of the meeting:

Telephone: (800) 779-6170 Participant Passcode: 8694592. There are 50 lines available for this meeting.

DATES: The meeting will be held on June 14, 2018, 9:00 a.m. to 4:00 p.m., EDT.

ADDRESSES: The Wink Hotel, New Hampshire Ballroom, 1143 New Hampshire Avenue NW, Washington, DC 20037.

FOR FURTHER INFORMATION CONTACT: Monica Swann, MBA, Management Analyst, National Center for Chronic Disease Prevention and Health Promotion, CDC, 395 E. Street SW, Washington, DC 20024, telephone (202) 245-0552, email zqe0@cdc.gov.

SUPPLEMENTARY INFORMATION:

Purpose: The Interagency Committee on Smoking and Health shall provide advice and guidance to the Secretary, Department of Health and Human Services (HHS), regarding: (a) Coordination of research, educational programs, and other activities within the Department that relate to the effect of smoking on human health and on coordination of these activities, with similar activities of other Federal and private agencies; and (b) establishment and maintenance of liaisons with appropriate private entities, other Federal agencies, and State and local public agencies, regarding activities relating to the effect of cigarette smoking on human health.

Matters to be Considered: The agenda will include discussions on the history and context of the intersection of tobacco use and behavioral health populations including those suffering from mental illness and/or substance abuse disorders. There will be presentations on the impact of tobacco use on these populations as well as the tobacco control interventions that can mitigate this impact, including innovative approaches for prevention and cessation. Agenda items are subject to change as priorities dictate.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2018-09474 Filed 5-3-18; 8:45 am]

BILLING CODE 4163-19-P